NATIONAL SCIENCE FOUNDATION

Proposal Review Panel for Physics: Notice of Meeting

In accordance with the Federal Advisory Committee Act (Pub. L. 92-463, as amended), the National Science Foundation announces the following meeting:

Name and Committee Code: Proposal Review Panel for the Division of Physics (1208)—ITAMP Site Visit.

Date and Time: April 10, 2017; 8:30 a.m.-5:15 p.m. April 11, 2017; 8:30 a.m.-4:00 p.m.

Place: Harvard-Smithsonian Center of Astrophysics, 60 Garden Street, Cambridge, MA 02138.

Type of Meeting: Part-Open.

Contact Person: Dr. Michael Cavagnero, Program Director for Physics, Division of Physics, National Science Foundation, 4201 Wilson Blvd., Room 1015, Arlington, VA 22230; Telephone: (703) 292-8783.

Purpose of Meeting: Site visit to provide an evaluation of the progress of the projects at the host site for the Division of Physics at the National Science Foundation.

Agenda

April 10, 2017; 8:30 a.m.-5:15 p.m.

08:30 a.m.-08:45 a.m. Coffee

08:45 a.m.-09:00 a.m. Executive Meeting—CLOSED

09:00 a.m.-10:45 a.m. ITAMP Report and activities

10:45 a.m.-12:15 p.m. Science Presentations

12:15 p.m.-01:45 p.m. Lunch with Post Docs

01:45 p.m.-03:15 p.m. Outreach/Education Future Activities

03:15 p.m.-04:14 p.m. Executive Session—CLOSED

04:15 p.m.-05:15 p.m. Poster Session (Wolbach Library)

April 11, 2017; 8:30 a.m.-4:00 p.m.

08:30 a.m.-09:00 a.m. Coffee

09:00 a.m.-12:00 p.m. Executive Session—CLOSED

12:00 p.m.-01:30 p.m. Executive Session/Lunch—CLOSED

01:30 p.m.-04:00 p.m. Report writing—CLOSED

Reason for Late Notice: Due to unforeseen scheduling complications and the necessity to proceed with the review of the project.

Reason for Closing: Topics to be discussed and evaluated during closed portions of the site review will include information of a proprietary or confidential nature, including technical information and information on personnel. These matters are exempt under 5 U.S.C. 552b(c), (4) and (6) of the Government in the Sunshine Act.

Dated: April 4, 2017.
Crystal Robinson,
Committee Management Officer.

[FR Doc. 2017-07004 Filed 4-6-17; 8:45 am]

BILLING CODE 7555-01-P